DEPARTMENT OF TRANSPORTATION

[Docket No. DOT-OST-2010-0203]

Office of the Secretary: Senior Executive Service Performance Review Boards Membership

AGENCY: Office of the Secretary, Department of Transportation (DOT).

ACTION: Notice of Performance Review Board (PRB) appointments.

SUMMARY: DOT publishes the names of the persons selected to serve on the various Departmental PRBs as required by 5 U.S.C. 4314(c)(4).

FOR FURTHER INFORMATION CONTACT: Nancy A. Mowry, Director, Departmental Office of Human Resource Management, (202) 366-4088.

SUPPLEMENTARY INFORMATION: The persons named below have been selected to serve on one or more Departmental PRBs.

Issued in Washington, DC, on August 13, 2010.
Brodi L. Fontenot,
Acting Deputy Assistant Secretary for Administration.

Department of Transportation

Federal Highway Administration

Alicandri, Elizabeth

Arnold, Robert E.

Baxter, John R.

Brown, Janice W.

Cellini, Sue Anna

Cheatham, James A.

Conner, Clara H.

Curtis, Joyce A.

Elston, Debra S.

Furst, Anthony T.

Gee, King W.

Gibbs, David C.

Griffith, Michael S.

Holian, Thomas P.

Horne, Dwight A.

Johnson, Christine M.

Knopp, Martin C.

Konove, Elissa K.

Liff, Diane R.

Lindley, Jeffrey A.

Lucero, Amy C.

Lwin, Maung Myint

Marchese, April Lynn

Masuda, Allen

McElroy, Regina S.

Nicol, David A.

Paniati, Jeffrey F.

Peters, Joseph I.

Prosperi, Patricia A.

Ridenour, Melisa Lee

Rothstein, Cliff L.

Row, Shelley J.

Saunders, Ian C.

Shepherd, Gloria Morgan

Smith, Willie H.

Solomon, Gerald L.

St. Denis, Catherine

Stephanos, Peter J.

Suarez, Ricardo

Toole, Joseph S.

Toole, Patricia Ann

Trentacoste, Michael F.

Waidelich, Jr., Walter C.

Winter, David R.

Wlaschin, Julius

Federal Motor Carrier Administration

Amos, Anna J.

Gunnels, Mary D.

Horan III, Charles

Leone, Geraldine K.

McMurray, Rose A.

Minor, Larry W.

O'Sullivan, Kathleen B.

Pelcovits, Pamela

Quade III, William A.

Shelton, Terry

Tochen, David

Van Steenburg, John W.

Federal Railroad Administration

Coronel, Kim

Haley, Michael T.

Leeds, Jr., John G.

Logue, Michael

Nissenbaum, Paul

Pritchard, Edward W.

Rae, Karen J.

Reid, Margaret Bridge

Strang, Jo E.

Tessler, Mark

Yachmetz, Mark E.

Federal Transit Administration

Biehl, Scott A.

Borinsky, Susan C.

Hynes-Cherin, Brigid

Lindsey, Seth M.

Linnertz, Ann M.

Patrick, Robert C.

Rogers, Leslie T.

Schruth, Susan E.

Simon, Marisol

Taylor, Yvette

Thompson, Letitia

Tuccillo, Robert

Valdes, Vincent

Welbes, Matthew

Maritime Administration

Bohnert, Roger

Brohl, Helen

Byrne, Joseph Andrew

Caponiti, James

Ewen, Paula D.

Kumar, Sashi

Lesnick, H. Keith

McMahon, Christopher J.

Pixa, Rand

Rivait, David

Tokarski, Kevin

Weaver, Janice G.

National Highway Traffic Safety Administration

Abraham, Julie

Amoni, Marilena

Beuse, Nathaniel

Carra, Joseph

Coggins, Colleen P.

Donaldson, K. John

Geraci, Michael

Guerci, Lloyd S.

Harris, Claude

Kratzke, Stephen R.

Maddox, John M.

Markison, Marlene

McLaughlin, Brian M.

McLaughlin, Susan

Medford, Ronald L.

Michael, Jeffrey P.

Pennington, Rebecca

Saul, Roger

Simons, James F.

Smith, Daniel C.

Walter, Gregory A.

Wood, Stephen

Office of Inspector General

Barry, Timothy M.

Calvaresi Barr, Ann

Come, Joseph W.

Dailey, Susan

Dettelbach, Brian A.

Dixon, Lou

Hampton, Matthew E.

Leng, Rebecca C.

Millman, Rosalyn

Office of Inspector General (Not Department of Transportation Employees)

Allesandrino, Matthew (Department of Energy)

Delgado, Michael (Department of the Treasury)

Ellis, Karen (Department of Agriculture)

Hardsgrove, Steve (Department of the Interior)

Hartman, John (Department of Energy)

Heist, Melissa (Environmental Protection Agency)

O'Brien, Regina (General Services Administration)

Rish, Adrienne (U.S. Agency for International Development)

Taylor, Robert (Department of the Treasury)

Young, Robert (Department of Agriculture)

Wagner, Ben (Tennessee Valley Authority)

Office of the Secretary

DeBoer, Joan

DeCarme, David G.

Eisner, Neil

Fields, George

Fornarotto, Christa

Forsgren, Janet

Geier, Paul

Gretch, Paul L.

Herlihy, Thomas W.

Homan, Todd

Horn, Donald

Hurdle, Lana

Jackson, Ronald

Jones, Mary N.

Jones, Maureen A.

Kaleta, Judith

Knapp, Rosalind

Lawson, Linda

Leusch Carnaroli, Herbert

Lowder, Michael W.

McDermott, Susan

Mowry, Nancy A.

Neal, Brandon

Osborne, Elizabeth

Park, Laurie

Petrosino-Woolverton, Marie

Podberesky, Samuel

Schmidt, Robert T.

Streitmatter, Marlise

Szabat, Joel M.

Thomson, Kathryn B.

Washington, Keith

Washington, Linda J.

Wells, John

Ziff, Laura

Zuckman, Jill

Pipeline and Hazardous Materials Safety Administration

Douglass, Madonna C.

El-Sibaie, Magdy A.

Richard, Robert A.

Summitt, Monica J.

Wiese, Jeffrey D.

Research and Innovative Technology Administration

Brecht-Clark, Jan

Chang, William

Dillingham, Steven

Smith, Steven K.

Tompkins, Curtis

Saint Lawrence Seaway Development Corporation

Middlebrook, Craig H.

Pisani, Salvatore L.

Safety Transportation Board

Campbell, Rachel D.

Dettmar, Joseph

Gardner, Leland

Keats, Craig

Wallen, Matthew

[FR Doc. 2010-20670 Filed 8-19-10; 8:45 am]

BILLING CODE 4910-9X-P